DEPARTMENT OF ENERGY

[Docket No. EA-167-B]

Application to Export Electric Energy; PG&E Energy Trading—Power, L.P.

AGENCY: Office of Fossil Energy, DOE

ACTION: Notice of application.

SUMMARY: PG&E Energy Trading—Power, L.P. (“PGET-Power”) has applied for renewal of its authority to transmit electric energy from the United States to Mexico pursuant to section 202(e) of the Federal Power Act.

DATES: Comments, protests or requests to intervene must be submitted on or before November 29, 2001.

ADDRESSES: Comments, protests or requests to intervene should be addressed as follows: Office of Coal & Power Import/Export (FE-27), Office of Fossil Energy, U.S. Department of Energy, 1000 Independence Avenue SW., Washington, DC 20585-0350 (FAX 202-287-5736).

FOR FURTHER INFORMATION CONTACT: Rosalind Carter (Program Office) 202-586-7983 or Michael Skinker (Program Attorney) 202-586-2793.

SUPPLEMENTARY INFORMATION: Exports of electricity from the United States to a foreign country are regulated and require authorization under section 202(e) of the Federal Power Act (FPA) (16 U.S.C. 824a(e)).

On February 25, 1998, the Office of Fossil Energy (FE) of the Department of Energy (DOE) authorized PGET-Power to transmit electric energy from the United States to Mexico using the international electric transmission facilities of San Diego Gas & Electric Company, El Paso Electric Company, Central Power and Light Company, and Comision Federal de Electricidad, the national electric utility of Mexico. That two-year authorization was renewed on February 25, 2000, in Docket EA-167-A and will expire on February 23, 2002. On October 1, 2001, PGET-Power filed an application with FE for renewal of this export authority and requested that the order be issued for a 2-year term.

Procedural Matters

Any person desiring to become a party to this proceeding or to be heard by filing comments or protests to this application should file a petition to intervene, comment or protest at the address provided above in accordance with sections 385.211 or 385.214 of the FERC's Rules of Practice and Procedures (18 CFR 385.211, 385.214). Fifteen copies of each petition and protest should be filed with the DOE on or before the date listed above.

Comments on the PG&E Energy Trading—Power, L.P. application to export electric energy to Mexico should be clearly marked with Docket EA-167-B. Additional copies are to be filed directly with Christopher A. Wilson, Assistant General Counsel, PG&E Energy Trading—Power, L.P., 7500 Old Georgetown Rd., Suite 1300, Bethesda, MD 20914-6161 and Ms. Sarah Barpoulis, Senior Vice President, PG&E Energy Trading—Power, L.P., 7500 Old Georgetown Rd., Suite 1300, Bethesda, MD 20814-6161.

DOE notes that the circumstances described in this application are virtually identical to those for which export authority had previously been granted in FE Order EA-179. Consequently, DOE believes that it has adequately satisfied its responsibilities under the National Environmental Policy Act of 1969 through the documentation of a categorical exclusion in the FE Docket EA-167 proceeding.

Copies of this application will be made available, upon request, for public inspection and copying at the address provided above or by accessing the Fossil Energy homepage at http://www.fe.doe.gov. Upon reaching the Fossil Energy homepage, select “Electricity Regulation”, then “Pending Proceedings” from the options menus.

Issued in Washington, DC, on October 24, 2001.
Anthony J. Como,
Deputy Director, Electric Power Regulation, Office of Coal & Power Import/Export, Office of Coal & Power Systems, Office of Fossil Energy.

[FR Doc. 01-27231 Filed 10-30-01; 8:45 am]

BILLING CODE 6450-01-P